DEPARTMENT OF LABOR

Employment and Training Administration

[TA-W-41,185]

Pittsburgh Logistics Systems, A Subsidiary of Quadrivius, Inc., on Location at LTV Steel Corp., Independence, OH; Notice of Negative Determination Regarding Application for Reconsideration

By application of April 29, 2002, the petitioners, requested administrative reconsideration of the Department's negative determination regarding eligibility for workers and former workers of the subject firm to apply for Trade Adjustment Assistance (TAA). The denial notice was signed on March 29, 2002 and published in the Federal Register on April 17, 2002 (67 FR 18923).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Pittsburgh Logistics Systems, Independence, Ohio engaged in employment related to the management of warehousing and distribution services, was denied because the workers did not produce an article as required for certification under section 222 of the Trade Act of 1974.

The petitioners indicate that their jobs were eliminated due to lack of work caused by an LTV Steel Co., Inc., shutdown. They further state that they believe the closure of LTV Steel Co. is attributed to imports of steel.

The closure of the LTV Steel Company, Inc. is not relevant since the subject workers do not produce an article within the meaning of section 222(3) of the Act. The subject workers may be certified only if their separation was caused importantly by a reduced demand for their services from a parent firm, a firm otherwise related to the subject firm by ownership, or a firm otherwise related to the subject firm by control. Additionally, the reduction in demand for services must originate at a production facility whose workers independently meet the statutory criteria for certification and the reduction must directly relate to the product impacted by imports.

Conclusion

After review of the application and investigative findings, I conclude that there has been no error or misinterpretation of the law or of the facts which would justify reconsideration of the Department of Labor's prior decisions. Accordingly, the application is denied.

Signed at Washington, DC, this 30th day of May, 2002.
Edward A. Tomchick,
Director, Division of Trade Adjustment Assistance.

[FR Doc. 02-14790 Filed 6-11-02; 8:45 am]

BILLING CODE 4510-30-P